DEPARTMENT OF COMMERCE

National Oceanic and Atmospheric Administration

50 CFR Part 665

RIN 0648-AS71

Fisheries in the Western Pacific; Pelagic Fisheries; Squid Jig Fisheries

AGENCY: National Marine Fisheries Service (NMFS), National Oceanic and Atmospheric Administration (NOAA), Commerce.

ACTION: Notice of availability of fishery management plan amendment; request for comments.

SUMMARY: NMFS announces that the Western Pacific Fishery Management Council proposes to amend the Fishery Management Plan for Pelagic Fisheries of the Western Pacific Region. If approved by the Secretary of Commerce, Amendment 15 would add three species of pelagic squid to the management unit, and establish Federal permitting and reporting requirements for squid jig fishing vessels over 50 ft in length. These vessels would also be required to carry observers if requested by NMFS. Combined, these measures are intended to enable the Council and NMFS to better monitor and manage the U.S. domestic pelagic squid fisheries.

DATES: Comments on Amendment 15, which includes an environmental assessment, must be received by October 10, 2008.

ADDRESSES: Comments on the amendment, identified by 0648-AS71, may be sent to either of the following addresses:

• Electronic Submission: Via the Federal e-Rulemaking Portal www.regulations.gov; or

• Mail: William L. Robinson, Regional Administrator, NMFS, Pacific Islands Region (PIR), 1601 Kapiolani Blvd, Suite 1110, Honolulu, HI 96814-4700.

Instructions: All comments received are a part of the public record and will generally be posted to www.regulations.gov without change. All Personal Identifying Information (e.g., name, address, etc.) submitted voluntarily by the commenter may be publicly accessible. Do not submit Confidential Business Information, or otherwise sensitive or protected information. NMFS will accept anonymous comments (enter “N/A” in the required fields, if you wish to remain anonymous). Attachments to electronic comments will be accepted in Microsoft Word or Excel, WordPerfect, or Adobe PDF file formats only.

Copies of Amendment 15, including an environmental assessment, are available from the Western Pacific Fishery Management Council (Council), 1164 Bishop St., Suite 1400, Honolulu, HI 96813, tel 808-522-8220, fax 808-522-8226, or www.wpcouncil.org.

FOR FURTHER INFORMATION CONTACT: Bob Harman, NMFS PIR, 808-944-2271.

SUPPLEMENTARY INFORMATION: This Federal Register document is also accessible at the Office of the Federal Register Web site: www.gpoaccess.gov/fr.

A small nearshore squid jig fishery operates around the Hawaiian islands of Kauai and Hawaii, targeting purple flying squid. An international squid jig fishery, comprised of U.S. and foreign vessels, operates on the Pacific high seas. The high seas U.S. squid jiggers have targeted neon flying squid in the North Pacific, and potentially could move into U.S. Exclusive Economic Zone waters in the western Pacific. Although no resource concerns have arisen to date, monitoring programs and mechanisms to implement management measures (should they become necessary) are both necessary. To address these needs, the Council recommends in Amendment 15 management measures that would improve data compiled on U.S. squid fisheries through new permitting, monitoring and reporting requirements, as follows:

• Add three pelagic squid species to the pelagic management unit (neon flying squid Ommastrephes bartramii, diamondback squid Thysanoteuthis rhombus, and purple flying squid Sthenoteuthis oualaniensis); and

• Require U.S. vessels greater than 50 ft in length overall that fish for pelagic squid in U.S. EEZ of the western Pacific to:

i. obtain Federal permits;

ii. carry Federal observers if requested by NMFS; and

iii. report any Pacific pelagic squid catch and effort either in Federal squid logbooks or via existing local reporting systems.

U.S. squid jig vessels that fish only on the high seas in the Pacific would be required to report their catch and effort using the Federal squid logbooks. The information collected on squid jig fishing would be compiled into a centralized database easily available to resource scientists and managers.

These measures, if implemented, would provide additional data and provisions to enable the Council and NMFS to better monitor and manage the U.S. domestic pelagic squid fisheries in the future.

Amendment 15 includes an environmental assessment (EA) that describes the existing squid fishery, management, and environment, and describes the potential environmental impacts of implementing the provisions recommended in Amendment 15. The EA tiers from a 2005 Final Environmental Impact Statement (70 FR 24038, May 6, 2005), and incorporates by reference the previous environmental impact analysis of five of the alternatives considered in Amendment 15. New information about future fishery management policies became available after the Final EIS was completed and the additional alternative considered in Amendment 15 is analyzed in the EA.

Public comments on proposed Amendment 15 must be received by October 10, 2008 to be considered by NMFS in the decision to approve, partially approve, or disapprove the amendment. A proposed rule to implement the amendment has been submitted for Secretarial review and approval. NMFS expects to publish and request public comment on the proposed regulation in the near future.

Authority: 16 U.S.C. 1801 et seq.

Dated: August 1, 2008.
Alan D. Risenhoover,
Director, Office of Sustainable Fisheries, National Marine Fisheries Service.

[FR Doc. E8-18404 Filed 8-8-08; 8:45 am]

BILLING CODE 3510-22-S